DEPARTMENT OF COMMERCE

International Trade Administration

Executive-Led Trade Mission to Colombia and Panama; Change to Mission Dates

AGENCY: International Trade Administration, Department of Commerce.

ACTION: Notice.

Mission Description

The United States Department of Commerce, International Trade Administration, U.S. and Foreign Commercial Service is organizing a Trade Mission to Bogotá and Cartagena, Colombia and Panama City, Panama, September 20-24, 2010, to be led by a senior Commerce official. The mission will focus on helping U.S. companies launch or increase their export business in these promising markets. It will also help participating firms gain market information, make business and industry contacts, and solidify business strategies, towards the goal of increasing U.S. exports to the two markets. The mission will include business-to-business matchmaking appointments with local companies, as well as market briefings and networking events. The mission will be comprised of U.S. firms representing a cross section of U.S. industries with growing potential in the target markets, including, but not limited to the following sectors: building products; computers; components and peripherals; construction equipment; electrical power systems; security and safety equipment; telecommunications equipment; and travel and tourism services.

Mission Scenario

The mission will stop in Bogotá, and Cartagena, Colombia, and Panama City, Panama. In each city, participants will meet with pre-screened potential buyers, agents, distributors, and other business partners. They will also attend market briefings by U.S. Embassy officials, as well as networking events offering further opportunities to speak with local business and industry decision-makers.

Proposed Mission Timetable

Monday, September 20, 2010, Panama City, Panama, Market Briefing, Matchmaking appointments, Networking reception.

Tuesday, September 21, 2010, Panama City, Panama and Cartagena, Colombia, Travel to Cartagena, Market Briefing, Matchmaking appointments.

Wednesday, September 22, 2010, Cartagena, Colombia, Matchmaking appointments and/or site visits.

Thursday, September 23, 2010, Cartagena and Bogotá, Colombia, Travel to Bogotá, Market Briefing, Matchmaking appointments, Networking reception.

Friday, September 24, 2010, Bogotá, Colombia, Matchmaking appointments.

Participation Requirements

All parties interested in participating in the Executive-led Trade Mission to Colombia and Panama must complete and submit an application package for consideration by the Department of Commerce. All applicants will be evaluated on their ability to meet certain conditions and best satisfy the selection criteria as outlined below. A minimum of seven U.S. companies and maximum of 15 companies will be selected to participate in the mission from the applicant pool. U.S. companies already doing business with Colombia and Panama as well as U.S. companies seeking to enter these countries for the first time may apply.

Fees and Expenses:

After a company has been selected to participate on the mission, a payment to the Department of Commerce in the form of a participation fee is required. The participation fee will be $4,440 for large firms and $3,550 for a small or medium-sized enterprise (SME).¹ The fee for each additional firm representative (large firm or SME) is $450. Expenses for travel, lodging, most meals, and incidentals will be the responsibility of each mission participant. The same fee structure applies to representatives of U.S.-based firms stationed in Colombia, Panama, or neighboring countries.

¹ An SME is defined as a firm with 500 or fewer employees or that otherwise qualifies as a small business under SBA regulations (see http://www.sba.gov/services/contracting opportunities/sizestandardstopics/index.html ). Parent companies, affiliates, and subsidiaries will be considered when determining business size. The dual pricing reflects the Commercial Service's user fee schedule that became effective May 1, 2008 (see http://www.export.gov/newsletter/march2008/initiatives.html for additional information).

Conditions for Participation:

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation:

Selection will be based on the following criteria, listed in decreasing order of importance:

• Suitability of the company's products or services for the Colombian and Panamanian markets

• Applicant's potential for business in Colombia and Panama, including likelihood of exports resulting from the mission

• Consistency of the applicant's goals and objectives with the stated scope of the trade mission

Referrals from political organizations and any documents containing references to partisan political activities (including political contributions) will be removed from an applicant's submission and not considered during the selection process.

Timeframe for Recruitment and Applications

Mission recruitment will be conducted in an open and public manner. Outreach will include publication in the Federal Register, posting on the Commerce Department trade mission calendar (http://www.ita.doc.gov/doctm/tmcal.html) and other Internet Web sites, press releases to general and trade media, broadcast fax, notices by industry trade associations and other multiplier groups, and publicity at industry meetings, symposia, conferences, and trade shows.

Recruitment will begin immediately and conclude no later than Friday, July 23, 2010. The U.S. Department of Commerce will review all applications immediately after the deadline. We will inform applicants of selection decisions as soon as possible after July 23, 2010. Applications received after the deadline will be considered only if space and scheduling constraints permit.

Contacts:

Louis Quay, Commercial Service Trade Missions Program, Tel: 202-482-3973, Fax: 202-482-9000, E-mail: Louis.Quay@mail.doc.gov;

Jessica Arnold, Commercial Service Trade Missions Program, Tel: 202-482-2026, Fax: 202-482-9000, E-mail: Jessica.Arnold@trade.gov.

Sean Timmins,
Global Trade Programs, Commercial Service Trade Missions Program.

[FR Doc. 2010-4350 Filed 3-2-10; 8:45 am]

BILLING CODE P